DEPARTMENT OF THE INTERIOR

Fish and Wildlife Service

Reopening of Public Comment on Draft Recovery Goals for Four Endangered Fishes of the Colorado River Basin

AGENCY: Fish and Wildlife Service, Interior.

ACTION: Notice of reopening of public comment.

SUMMARY: The Fish and Wildlife Service (Service) provides notice of the reopening of the public comment period on the Draft Recovery Goals for the Four Endangered Fishes of the Colorado River Basin. The initial public comment period opened September 10, 2001, and closed October 25, 2001. To accommodate several requests for extension, the Service is reopening the comment period for an additional 15 days. Copies of the Draft Recovery Goals are available (in *.pdf format) for viewing and downloading at: http://www.r6.fws.gov/crrip/rg.htm, or from the Upper Colorado River Endangered Fish Recovery Program (see Addresses section). The Service is seeking comments or suggestions from the public, other concerned government agencies, the scientific community, or any other interested parties concerning the Draft Recovery Goals. Make requests and mail comments to the Director at the address below. Comments already submitted on the Draft Recovery Goals need not be resubmitted as they will be fully considered.

DATES: The reopen comment period closes December 10, 2001.

ADDRESSES: Written comments and materials concerning this proposal should be sent to Dr. Robert Muth, Director, Upper Colorado Endangered Fish Recovery Program, U.S. Fish and Wildlife Service, Post Office Box 25486, DFC, Denver, Colorado, 80225. You may submit comments by sending electronic mail (e-mail) to: colorivgoals@fws.gov.

FOR FURTHER INFORMATION CONTACT: Dr. Robert Muth, Director (extension 268), Dr. Thomas Czapla (extension 228) or Debbie Felker (extension 227), Coordinators (see ADDRESSES above), at telephone (303) 969-7322.

SUPPLEMENTARY INFORMATION: To further the recovery of humpback chub (Gila cypha), bonytail (Gila elegans), Colorado pikeminnow (formerly named Colorado squawfish; Ptchocheilus lucius), and razorback sucker (Xyrauchen texanus), the Service announced on September 10, 2001, the availability of the Draft Recovery Goals for these endangered fishes of the Colorado River Basin and a 45-day comment period. These goals will serve as a supplement and amendment to the respective recovery plans for each species. We solicit review and comments from agencies and the public on these Draft Recovery Goals.

The purpose of these supplements and amendments are to describe site-specific management actions/tasks needed to minimize or remove threats; provide objective, measurable recovery criteria for downlisting and delisting that identify levels of demongraphic and genetic viability needed for self-sustaining populations; and provide estimates of the time required to achieve recovery of each of the four endangered fish species. Downlisting and delisting criteria by listing factors and management actions, as well as demographic criteria, are presented for populations of each species within recovery units. In addition, updated life-history information and statistical criteria for monitoring are identified. The recovery goals for the humpback chub, razorback sucker and bonytail are identified by two recovery units, upper basin (above Glen Canyon Dam, Arizona) and lower basin. Recovery of the Colorado pikeminnow is currently considered only for the upper basin.

Authority: The authority for this action is the Endangered Species Act of 1973 (16 U.S.C. 1531 et seq.).

John A. Blankenship,
Deputy Regional Director, Denver, Colorado.

[FR Doc. 01-29220 Filed 11-21-01; 8:45 am]

BILLING CODE 4310-55-M